SOCIAL SECURITY ADMINISTRATION

Agency Information Collection Activities; Proposed Request and Comment Request

The Social Security Administration (SSA) publishes a list of information collection packages requiring clearance by the Office of Management and Budget (OMB) in compliance with Public Law 104-13, the Paperwork Reduction Act of 1995, effective October 1, 1995. This notice includes a full clearance of an emergency OMB-approved collection and revisions to OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer at the following addresses or fax numbers.

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

I. The information collections below are pending at SSA. SSA will submit them to OMB within 60 days from the date of this notice. To be sure we consider your comments, we must receive them no later than September 12, 2011. Individuals can obtain copies of the collection instruments by calling the SSA Reports Clearance Officer at 410-965-8783 or by writing to the above e-mail address.

1. Claimant's Work Background—20 CFR 404.1565(b) and 20 CFR 416.965(b)—0960-0300

Sections 205(a) and 1631(e) of the Social Security Act (Act) provide the Commissioner of Social Security with the authority to establish procedures for determining if a claimant is entitled to disability benefits. SSA may ask individuals who are requesting a hearing before an administrative law judge (ALJ), due to a denied benefits application, to provide background information about work they performed in the past 15 years. SSA uses the information collected on Form HA-4633 to assess an individual's disability and review an updated summary of the individual's relevant work history, as required by an ALJ to accurately assess the claimant's disability. The respondents are claimants for disability benefits under title II or title XVI who requested a hearing before an ALJ.

Type of Request: Revision of an OMB-approved information collection.

Number of Respondents: 200,000.

Frequency of Response: 1.

Average Burden per Response: 15 minutes.

Estimated Annual Burden: 50,000 hours.

2. Statement of Claimant or Other Person-Medical Resident FICA Refund Claims—20 CFR 404.702 and 416.570—0960-0786

The Internal Revenue Service (IRS) is contacting medical residents (and their employers) who filed Federal Insurance Contributions Act (FICA) refund claims from 1993 through 2005. Those medical residents who claimed their residencies were actually training, not employment, should not have been subject to FICA tax. The IRS decided to honor these claims and issue a full refund of FICA tax, plus statutory interest, to those who wish to participate in the refund resolution. SSA will remove wages from the participating residents' earnings records for the period of the refund requests, which will cause the residents' recorded earnings to decrease. This not only affects earnings for future retirement benefits, but also could adversely affect those residents (or their beneficiaries) who currently receive Social Security benefits. To ensure residents understand the potential impact on their benefits, SSA is contacting those residents who will be adversely affected and explaining the effect on their Social Security benefits if they accept the IRS FICA refund. To document the residents' decision to accept or revoke the refund, SSA will telephone the residents and explain how accepting the refund will affect their Social Security benefits. We will then mail the SSA-795-OP2 to each resident to sign and return to SSA. If SSA cannot reach the resident by phone, we will send a contact letter and the SSA-795-OP2 to the resident to complete and return to SSA. Once we have the information, we will forward the signed forms to the IRS for the residents who no longer want the FICA refund.

Type of Request: Full approval of an emergency OMB-approved information collection.

Number of Respondents: 496.

Frequency of Response: 1.

Average Burden per Response: 4 minutes.

Estimated Annual Burden: 33 hours.

II. SSA submitted the information collections below to OMB for clearance. Your comments regarding the information collections would be most useful if OMB and SSA receive them within 30 days from the date of this publication. To be sure we consider your comments, we must receive them no later than August 12, 2011. Individuals can obtain copies of the OMB clearance packages by calling the SSA Reports Clearance Officer at 410-965-8783 or by writing to the above e-mail address.

1. Farm Arrangement Questionnaire—20 CFR 404.1082(c)—0960-0064

When self-employed workers submit earnings data to SSA, they cannot count rental income from a farm unless they demonstrate “material participation” in the farm's operation. A material participation arrangement means the farm's owners must perform a combination of physical duties, management decisions, and capital investment in the farm they rent out. In such cases, SSA uses Form SSA-7157, the Farm Arrangement Questionnaire, to document material participation. The respondents are workers who rent farmland to others, are involved in the operation of the farm, and want to claim countable income from work they perform relating to the farm.

Type of Request: Revision of an OMB-approved information collection.

Number of Respondents: 38,000.

Average Burden per Response: 30 minutes.

Estimated Annual Burden: 19,000 hours.

2. Information Collections Conducted by State Disability Determination Services on Behalf of SSA—20 CFR, subpart P, 404.1503a, 404.1512, 404.1513, 404.1514, 404.1517, 404.1519; 20 CFR subpart Q, 404.1613, 404.1614, 404.1624; 20 CFR subpart I, 416.903a, 416.912, 416.913, 416.914, 416.917, 416.919 and 20 CFR subpart J, 416.1013, 416.1024, 416.1014—0960-0555

State Disability Determination Services (DDS) collect the information necessary to administer the Social Security Disability Insurance and Supplemental Security Income (SSI) programs. They collect medical evidence from consultative examination (CE) sources, credential information from CE source applicants, and Medical Evidence of Record (MER) from claimants' medical sources. The DDSs collect information from claimants regarding medical appointments and pain/symptoms. The respondents are medical providers, other sources of MER, and disability claimants.

Type of Request: Revision of an OMB-approved information collection.

CE Collections

There are two collections from CE providers: (a) Medical evidence about claimants' medical condition(s) that DDSs use to make disability determinations when the claimant's own medical sources cannot or will not provide the required information; and (b) proof of credentials from CE providers.

(a) Medical Evidence from CE Providers

Collection instrument | Number of respondents | Frequency of response | Average burden per response (minutes) | Estimated annual burden (hours)
Paper Submissions | 100,000 | 1 | 30 | 50,000
Electronic Submissions | 3,500,000 | 1 | 10 | 583,333
Totals | 3,600,000 |  |  | 633,333

(b) CE Credentials

Collection instrument | Number of respondents | Frequency of response | Average burden per response (minutes) | Estimated annual burden (hours)
Paper Submission | 3,000 | 1 | 15 | 750

There are two CE claimant collections: (a) Claimant completion of a response form indicating whether they intend to keep their CE appointment; and (b) claimant completion of a form indicating whether they want a copy of the CE report sent to their doctor.

Type of CE claimant collection | Number of respondents | Frequency of response | Average burden per response (minutes) | Estimated annual burden (hours)
Appointment Letter | 2,500,000 | 1 | 5 | 208,333
Claimants re: Report to Medical Provider | 1,500,000 | 1 | 5 | 125,000
Totals | 4,000,000 |  |  | 333,333

MER Collections

The DDSs collect MER information from the claimant's medical sources to determine the claimant's physical or mental status, prior to making a disability determination.

| Number of respondents | Frequency of response | Average burden per response (minutes) | Estimated annual burden (hours)
Paper submissions | 500,000 | 1 | 20 | 166,667
Electronic submissions | 5,500,000 | 1 | 12 | 1,100,000
Totals | 6,000,000 |  |  | 1,266,667

Pain/Other Symptoms/Impairment Information from Claimants

The DDSs use information about pain/symptoms to determine how pain/symptoms affect the claimant's ability to do work-related activities prior to making a disability determination.

| Number of respondents | Frequency of response | Average burden per response (minutes) | Estimated annual burden (hours)
Paper submission | 2,500,000 | 1 | 15 | 625,000

The total combined burden is 2,859,083.

Note: This is a correction notice. SSA published incorrect burden information for this collection at 76 FR 16847, on March 25, 2011. We are correcting this error here.

Dated: July 8, 2011.
Faye Lipsky,
Reports Clearance Officer, Center for Reports Clearance, Social Security Administration.

[FR Doc. 2011-17555 Filed 7-12-11; 8:45 am]

BILLING CODE 4191-02-P